ENVIRONMENTAL PROTECTION AGENCY

[EPA-HQ-OLEM-2020-0075; FRL-10005-62-OLEM]

Hazardous Waste Electronic Manifest System (“e-Manifest”) Advisory Board; Notice of Public Meeting

AGENCY: Environmental Protection Agency (EPA).

ACTION: Notice.

SUMMARY: The Environmental Protection Agency (EPA) will convene the Hazardous Waste Electronic System (“e-Manifest”) Advisory Board for a three (3) day public meeting to seek the Board's consultation and recommendations regarding the e-Manifest system (Meeting Theme: “Reengineering Electronic Signatures for Generators and Transporters to Increase Adoption of Electronic Manifests”).

DATES: The meeting will be held on April 14-16, 2020, from approximately 9:00 a.m. to 5:00 p.m. EDT.

Comments. The Agency encourages written comments be submitted on or before March 31, 2020, and requests for oral comments to be submitted on or before April 7, 2020. Written comments and requests to make oral comments may be submitted up until the date of the meeting; however, anyone submitting written comments or requests for oral comments after April 7, 2020, should contact the Designated Federal Officer (DFO) listed under FOR FURTHER INFORMATION CONTACT. For additional instructions, see section I.C. under SUPPLEMENTARY INFORMATION.

Webcast. This meeting may be webcast. Please refer to the e-Manifest website at www.epa.gov/e-manifest for information on how to access the webcast. Please note that the webcast is a supplementary public service provided only for convenience. If difficulties arise resulting in webcasting outages, the meeting will continue as planned.

Special accommodations. For information on access or services for individuals with disabilities, and to request accommodation of a disability, please contact the DFO listed under FOR FURTHER INFORMATION CONTACT at least ten (10) days prior to the meeting to give the EPA as much time as possible to process your request.

ADDRESSES: Meeting: The meeting will be held at the Environmental Protection Agency Conference Center, Lobby Level, One Potomac Yard (South Bldg.), 2777 S Crystal Dr., Arlington, VA 22202.

Comments. Submit your comments, identified by docket ID number EPA-HQ-OLEM-2020-0075 at http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (e.g., on the web, cloud, or other file sharing system). For additional submission methods, the full EPA public comment policy, information about CBI or multimedia submissions, and general guidance on making effective comments, please visit https://www.epa.gov/dockets/commenting-epa-dockets.

FOR FURTHER INFORMATION CONTACT: Fred Jenkins, Designated Federal Officer (DFO), U.S. Environmental Protection Agency, Office of Resource Conservation and Recovery, (MC: 5303P), 1200 Pennsylvania Avenue NW, Washington, DC 20460, Phone: 703-308-7049; or by email: jenkins.fred@epa.gov.

SUPPLEMENTARY INFORMATION:

I. General Information

A. Does this action apply to me?

This action is directed to the public in general. This action may be of particular interest to persons who are or may be subject to the Hazardous Waste Electronic Manifest Establishment (e-Manifest) Act.

B. How may I participate in this meeting?

You may participate in this meeting by following the instructions in this document. To ensure proper receipt of your public comments by the EPA, it is imperative that you identify docket ID number EPA-HQ-OLEM-2020-0075.

1. Written comments. The Agency encourages written comments be submitted electronically via regulations.gov, using the instructions in the ADDRESSES Comments section on or before March 31, 2020, to provide the e-Manifest Advisory Board the time necessary to consider and review the written comments. Written comments are accepted until the date of the meeting, but anyone submitting written comments after April 7, 2020, should contact the DFO listed under FOR FURTHER INFORMATION CONTACT. Anyone submitting written comments at the meeting should bring fifteen (15) copies for distribution to the e-Manifest Advisory Board.

2. Oral comments. The Agency encourages each individual or group wishing to make brief oral comments to the e-Manifest Advisory Board to submit their request to the DFO listed under FOR FURTHER INFORMATION CONTACT on or before April 7, 2020, in order to be included on the meeting agenda. Requests to present oral comments will be accepted until the date of the meeting. To the extent that time permits, the Chair of the e-Manifest Advisory Board may permit the presentation of oral comments at the meeting by interested persons who have not previously requested time. The request should identify the name of the individual making the presentation, the organization (if any) that the individual represents, and any requirements for audiovisual equipment. Oral comments before the e-Manifest Advisory Board are limited to approximately five (5) minutes unless prior arrangements have been made. In addition, each speaker should bring fifteen (15) copies of his or her comments and presentation for distribution to the e-Manifest Advisory Board at the meeting.

3. Seating at the meeting. Seating at the meeting will be open and on a first-come basis.

C. Purpose of the e-Manifest Advisory Board

The Hazardous Waste Electronic Manifest System Advisory Board is established in accordance with the provisions of the Hazardous Waste Electronic Manifest Establishment Act, 42 U.S.C. 6939g, and the Federal Advisory Committee Act (FACA), 5 U.S.C. App.2. The e-Manifest Advisory Board is in the public interest and supports the EPA in performing its duties and responsibilities.

The e-Manifest Advisory Board will provide recommendations on matters related to the operational activities, functions, policies, and regulations of the EPA under the e-Manifest Act, including: The effectiveness of the e-Manifest IT system and associated user fees and processes; matters and policies related to the e-Manifest program; regulations and guidance as required by the e-Manifest Act; actions to encourage the use of the electronic (paperless) system; changes to the user fees as described in e-Manifest Act Section 2(c)(3)(B)(i); and issues in the e-Manifest area, including those identified in the EPA' s E-Enterprise strategy that intersect with the e-Manifest system, such as: Business-to-business communications; performance standards for mobile devices; and the EPA's Cross Media Electronic Reporting Rule (CROMERR) requirements.

The sole duty of the Advisory Board is to provide advice and recommendations to the EPA Administrator. As required by the e-Manifest Act, the e-Manifest Advisory Board is composed of nine (9) members. One (1) member is the EPA Administrator (or a designee), who serves as Chairperson of the Advisory Board. The rest of the committee is composed of:

• At least two (2) members who have expertise in information technology;

• At least three (3) members who have experience in using or represent users of the manifest system to track the transportation of hazardous waste under the e-Manifest Act;

• At least three (3) members who are state representatives responsible for processing manifests.

All members of the e-Manifest Advisory Board, except for the EPA Administrator, are appointed as Special Government Employees or representatives.

D. Public Meeting

EPA launched the e-Manifest system on June 30, 2018. e-Manifest enables those persons required to use a RCRA manifest under either federal or state law to have the option of using electronic manifests to track shipments of hazardous waste and to meet certain RCRA requirements. By enabling the transition from a paper-intensive process to an electronic system, the EPA estimates e-Manifest will ultimately save state and industry users more than $50 million annually, once electronic manifests are widely adopted.

EPA will convene its next public meeting of the e-Manifest System Advisory Board from April 14-16, 2020. The purpose of this meeting is for the Board to advise the Agency on its proposed additional methods for increasing the use of electronic manifests, which include reengineering electronic signatures for generators and transporters to reduce the administrative burdens and barriers to electronic manifesting.

Since the launch of e-Manifest, the Agency has learned through experience that it can likely increase adoption of electronic manifests by providing generators and transporters more flexibility in their methods for performing electronic signatures. This is supported by the final recommendations of the e-Manifest Advisory Board, following its June 2019 Advisory Board meeting, which was focused on increasing adoption of the e-Manifest system. In its final recommendations, delivered to the Agency on September 23, 2019, the Advisory Board identified numerous challenges with generator and transporter adoption of electronic manifests. In particular, the Advisory Board asked the Agency to reevaluate its signature requirements and stated that the Agency should consider the costs and benefits, given the diversity of roles/types of users.

The Agency is thus considering additional methods available for generator and transporter electronic signatures and will consult the Advisory Board on these methods during the April 2020 Advisory Board meeting. Specifically, EPA will present three methods for generator/transporter electronic signature, which could potentially all be available for generators and transporters to use.

A first method for generators and transporters is to require at least one person (per respective generator and transporter) to become registered in EPA's RCRAInfo system as a “Site Manager.” (Note: The Agency is not intending at this time to make any changes to the current registration process for Site Managers as this role allows users to manage permissions within their organization with respect to other modules in EPA's RCRAInfo system, in addition to e-Manifest.) Under this method, the Site Manager would identify/confirm/update the specific personnel (e.g., employee on the loading dock, driver) on the electronic manifest who will have firsthand knowledge of the manifest shipment, and who will be responsible for electronically signing the generator certification or transporter acknowledgment of receipt by identifying/confirming/updating the name and either a phone number or email address associated with that name. The system would then send a link to that phone number/email of the individual employee, who could then simply click a link to electronically sign the electronic manifest.

A second method for generators and transporters is to require at least one person to become registered in EPA's RCRAInfo system as a “Site Manager” for their respective sites, and have all other personnel become registered in the same way as “Preparers” are registered. These personnel would receive a user name and password using the current registration process and would then request access to their site(s), as appropriate, but would not need to undergo further identity proofing. Generator and transporter personnel that are registered could then log in with their user name/password and could create and edit electronic manifests for their sites. Electronic signatures under this method for generators and transporters would consist of, after logging in to their account, clicking a button to electronically sign.

A third method is for generators and transporters to use digitized signature pads which have been approved by the Agency under its CROMERR program. This method would require generators and transporters to possess units that allow them to capture a physical signature electronically, for example, using a stylus.

The Agency intends to provide more detail regarding these methods in its meeting materials, which will be published in the docket for the meeting.

E. e-Manifest Advisory Board Documents and Meeting Minutes

The meeting background paper, related supporting materials, charge/questions to the Advisory Board, the Advisory Board membership roster (i.e., members attending this meeting), and the meeting agenda will be available by approximately mid-March 2020. In addition, the Agency may provide additional background documents as the materials become available. You may obtain electronic copies of these documents, and certain other related documents that might be available at http://www.regulations.gov and the e-Manifest Advisory Board website at: https:/www.epa.gov/e-manifest/hazardous-waste-electronic-manifest-system-e-manifest-advisory-board.

The e-Manifest Advisory Board will prepare meeting minutes summarizing its recommendations to the Agency approximately ninety (90) days after the meeting. The meeting minutes will be posted on the e-Manifest Advisory Board website or may be obtained from the docket at http://www.regulations.gov.

Dated: February 6, 2020.
Kathleen Salyer,
Acting Director, Office of Resource Conservation and Recovery, Office of Land and Emergency Management.

[FR Doc. 2020-03402 Filed 2-19-20; 8:45 am]

BILLING CODE 6560-50-P